DEPARTMENT OF DEFENSE

GENERAL SERVICES ADMINISTRATION

NATIONAL AERONAUTICS AND SPACE ADMINISTRATION

48 CFR Chapter 1

[Docket No. FAR 2014-0052, Sequence No. 8]

Federal Acquisition Regulation; Federal Acquisition Circular 2005-80; Small Entity Compliance Guide

AGENCIES: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2005-80, which amends the Federal Acquisition Regulation (FAR). An asterisk (*) next to a rule indicates that a regulatory flexibility analysis has been prepared. Interested parties may obtain further information regarding these rules by referring to FAC 2005-80, which precedes this document. These documents are also available via the Internet at http://www.regulations.gov.

DATES: January 29, 2015.

FOR FURTHER INFORMATION CONTACT: For clarification of content, contact the analyst whose name appears in the table below. Please cite FAC 2005-80 and the FAR case number. For information pertaining to status or publication schedules, contact the Regulatory Secretariat at 202-501-4755.

Rules Listed in FAC 2005-80
List | Subject | FAR case | Analyst
I * | Ending Trafficking in Persons | 2013-001 | Davis.
II | Management and Oversight of the Acquisition of Services | 2014-008 | Jackson.
III | Technical Amendments

SUPPLEMENTARY INFORMATION: Summaries for each FAR rule follow. For the actual revisions and/or amendments made by these rules, refer to the specific item numbers and subjects set forth in the documents following these item summaries. FAC 2005-80 amends the FAR as specified below:

Item I—Ending Trafficking in Persons (FAR Case 2013-001)

This final rule amends the FAR to implement Executive Order 13627 and Title XVII of the National Defense Authorization Act for Fiscal Year 2013 and promotes the United States policy prohibiting trafficking in persons. Contractors and subcontractors must disclose to employees the key conditions of employment, starting with wages and work location; no recruiting fees are allowed to be charged to employees.

Compliance plans and annual certifications are required for portions of contracts over $500,000 performed outside the United States, except for commercially available off-the-shelf items of supply; plans shall be appropriate to the size and complexity of the contract or subcontract, and the nature and scope of the activities under the contract or subcontract. These plan exceptions will significantly reduce the impact on small entities.

Contracting officers should specify in the contract whether a written employee work document is required, which notifies the employee of certain details about the work and about trafficking in persons. The contracting officer is also required to notify the agency Inspector General, debarring and suspending official, and, if appropriate, law enforcement of credible information regarding violations. The contracting officer is required to put into FAPIIS violations substantiated by the agency Inspector General, after a final agency determination.

Item II—Management and Oversight of the Acquisition of Services (FAR Case 2014-008)

This final rule amends the FAR to implement a recommendation to strengthen guidance on service acquisitions by incorporating at FAR 37.101 the definitions relating to “uncompensated overtime” presently set forth in FAR 52.237-10(a), except that the defined term “uncompensated overtime rate” has been changed to “adjusted hourly rate (including uncompensated overtime).” Additionally, the definition of the new term “adjusted hourly rate (including uncompensated overtime)” clarifies that the proposed hours per week include uncompensated overtime hours over and above the standard 40-hour work week. FAR 52.237-10 is further amended to clarify the application of the adjusted hourly rate, and categorization of proposed hours subject to the adjusted hourly rate. In addition, FAR 52.237-10 has been amended to reflect that all proposed labor hours subject to the adjusted hourly rate shall be identified as either regular or overtime hours, by labor categories. Finally, FAR 37.115-2 has been amended to add a paragraph (d) to clarify that when there is uncompensated overtime, the adjusted hourly rate, rather than the hourly rate shall be applied to all proposed hours, whether regular or overtime hours.

This rule is not expected to have a significant cost or administrative impact on contractors or offerors. This final rule is also not expected to have a significant impact on contracting officers because it only clarifies policy that is already stated in the FAR. These requirements affect only the internal operating procedures of the Government.

Item III—Technical Amendments

Editorial changes are made at FAR 46.202-4, 52.212-3, and 52.225-18.

Dated: January 22, 2015.
William Clark,
Director, Office of Government-wide Acquisition Policy, Office of Acquisition Policy, Office of Government-wide Policy.

[FR Doc. 2015-01527 Filed 1-28-15; 8:45 am]

BILLING CODE 6820-EP-P